DEPARTMENT OF THE TREASURY

Office of Thrift Supervision

[Docket ID: OTS-2009-0019]

Open Meeting of the OTS Mutual Savings Association Advisory Committee

AGENCY: Department of the Treasury, Office of Thrift Supervision.

ACTION: Notice of meeting.

SUMMARY: The OTS Mutual Savings Associations Advisory Committee (MSAAC) will convene a meeting on Wednesday, October 28, 2009, in the Chicago Office of the Office of Thrift Supervision, One South Wacker Drive, Suite 2000, Chicago, Illinois beginning at 8:30 a.m. Central Time. The meeting will be open to the public.

DATES: The meeting will be held on Wednesday, October 28, 2009, at 8:30 a.m. Central Time.

ADDRESSES: The meeting will be held at the Office of Thrift Supervision, One South Wacker Drive, Suite 2000, Chicago, Illinois. The public is invited to submit written statements to the MSAAC by any one of the following methods:

• E-mail address: mutualcommittee@ots.treas.gov; or

• Mail: To Charlotte Bahin, Designated Federal Official, Office of Thrift Supervision, 1700 G Street, NW., Washington, DC 20552 in triplicate.

The agency must receive statements no later than October 21, 2009.

FOR FURTHER INFORMATION CONTACT: Charlotte M. Bahin, Designated Federal Official, (202) 906-6452, Office of Thrift Supervision, 1700 G Street, NW., Washington, DC 20552.

SUPPLEMENTARY INFORMATION: By this notice, the Office of Thrift Supervision is announcing that the OTS Mutual Savings Association Advisory Committee will convene a meeting on Wednesday, October 28, 2009, in the Chicago Office of the at the Office of Thrift Supervision, One South Wacker Drive, Suite 2000, Chicago, Illinois, beginning at 8:30 a.m. Central Time. The meeting will be open to the public. Because the meeting will be held in a secured facility with limited space, members of the public who plan to attend the meeting, and members of the public who require auxiliary aid, must contact the Office of Thrift Supervision at 202-906-6429 by 5 p.m. Eastern Time on Wednesday, October 21, 2009, to inform OTS of their desire to attend the meeting and to provide the information that will be required to facilitate entry into the OTS building. To enter the building, attendees should provide their full name, e-mail address and organization. The purpose of the meeting is to advise OTS on what regulatory changes or other steps OTS may be able to take to ensure the continued health and viability of mutual savings associations, and other issues of concern to the existing mutual savings associations.

Dated: October 2, 2009.
By the Office of Thrift Supervision.
Deborah Dakin,
Acting Chief Counsel.

[FR Doc. E9-24324 Filed 10-7-09; 8:45 am]

BILLING CODE P